ENVIRONMENTAL PROTECTION AGENCY

[FRL-9954-73-OA]

Notification of a Public Meeting of the Chartered Science Advisory Board

AGENCY: Environmental Protection Agency (EPA).

ACTION: Notice.

SUMMARY: The Environmental Protection Agency (EPA) Science Advisory Board (SAB) Staff Office announces a public meeting of the chartered SAB to: (1) Conduct a quality review of the draft SAB review of the EPA's proposed methodology for mortality risk valuation estimates for policy analysis; (2) discuss information provided by the EPA on planned actions in the Spring 2016 semi-annual regulatory agenda and their supporting science; (3) discuss information about shipboard treatment efficacy in the SAB report, Efficacy of Ballast Water Treatment Systems: A Report by the Science Advisory Board, and (4) receive briefings on future topics from the EPA.

DATES: The public meeting will be held on Wednesday, November 30, 2016, from 1:30 p.m. to 5:00 p.m. and Thursday December 1, 2016, from 9:00 a.m. to 1:00 p.m.

ADDRESSES: The meeting will be held at the Westin Arlington Gateway Hotel, 801 North Glebe Road, Arlington, VA 22203.

FOR FURTHER INFORMATION CONTACT: Any member of the public who wants further information concerning the meeting may contact Mr. Thomas Carpenter, Designated Federal Officer (DFO), EPA Science Advisory Board (1400R), U.S. Environmental Protection Agency, 1200 Pennsylvania Avenue NW., Washington, DC 20460; via telephone/voice mail (202) 564-4885, or email at carpenter.thomas@epa.gov. General information concerning the SAB can be found on the EPA Web site at http://www.epa.gov/sab.

SUPPLEMENTARY INFORMATION: Background: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

(1) Quality Review of a Draft SAB Report on EPA's Proposed Methodology for Mortality Risk Valuation Estimates for Policy Analysis

The EPA's Office of Policy requested advice on proposed improvements to the Agency's methodology for estimating benefits associated with reduced risk of mortality. This methodology takes into account the amounts that individuals are willing to pay for reductions in mortality risk. The resulting values are combined into an estimate known as the value of statistical life (VSL) which is used in regulatory benefit-cost analysis. The EPA has also requested that the SAB review options for accounting for changes in the VSL over time as real income grows, known as income elasticity of willingness to pay.

The chartered SAB will conduct a quality review of the committee's draft report before it is transmitted to the EPA Administrator. The SAB quality review process ensures that all draft reports developed by SAB panels, committees or workgroups are reviewed and approved by the Chartered SAB before being finalized and transmitted to the EPA Administrator. These reviews are conducted in a public meeting as required by FACA.

Background on the current advisory activity, Valuing Mortality Risk Reductions for Policy: Proposed Updates to Valuation and Income Elasticity Estimates can be found on the SAB Web site at http://yosemite.epa.gov/sab/sabproduct.nsf/fedrgstr_activites/Valuing%20fatal%20risk%20for%20policy?OpenDocument.

(2) Discussion of Information on the Agency's Semiannual Regulatory Agenda

As part of the EPA's effort to routinely inform the SAB about proposed and planned agency actions that have a scientific or technical basis, the agency provided notice to the SAB that the Office of Management and Budget published the “Unified (Regulatory) Agenda” on the Web on May 18, 2016 available at http://www.reginfo.gov/public/do/eAgendaMain.

The SAB convened a Work Group to review information provided in the agency's Spring 2016 regulatory agenda regarding EPA planned actions and their supporting science. The SAB will discuss recommendations and information developed by the Work Group regarding the adequacy of the science supporting the planned actions. Information about this advisory activity can be found on the Web at http://yosemite.epa.gov/sab/sabproduct.nsf/fedrgstr_activites/SAB%20Fall%202015%20Reg%20Agenda?OpenDocument.

(3) Discussion of Information About Shipboard Treatment Efficacy in the SAB Report, Efficacy of Ballast Water Treatment Systems: A Report by the Science Advisory Board

The SAB will discuss recommendations and information developed by a Work Group regarding the conclusions about shipboard treatment efficacy in the SAB report, Efficacy of Ballast Water Treatment Systems: A Report by the Science Advisory Board (EPA-SAB-11-009). The SAB convened a Work Group to gather and review information on the report's underlying data and related conclusions. The SAB is not seeking new data regarding ballast water treatment system efficacy and will focus its discussion on the data and information available for the report. Information about this advisory activity can be found on the Web at http://yosemite.epa.gov/sab/sabproduct.nsf/fedrgstr_activites/Ballast%20Water%20Fact%20Finding?OpenDocument.

Availability of Meeting Materials: A meeting agenda and other materials for the meeting will be placed on the SAB Web site at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the November 30-December 1, 2016, meeting should contact Mr. Thomas Carpenter, DFO, in writing (preferably via email) at the contact information noted above by November 21, 2016 to be placed on the list of registered speakers.

Written Statements: Written statements for the November 30-December 1, 2016, meeting should be received in the SAB Staff Office by November 21, 2016, so that the information can be made available to the SAB for its consideration prior to the meeting. Written statements should be supplied to the DFO at the contact information above via email (preferred) or in hard copy with original signature. Submitters are requested to provide a signed and unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Carpenter at the phone number or email address noted above, preferably at least ten days prior to the meeting, to give the EPA as much time as possible to process your request.

Dated: October 25, 2016.
Khanna Johnston,
Acting Deputy Director, EPA Science Advisory Board Staff Office.

[FR Doc. 2016-26373 Filed 10-31-16; 8:45 am]

BILLING CODE 6560-50-P